ENVIRONMENTAL PROTECTION AGENCY

[ER-FRL-6686-1]

Environmental Impacts Statements; Notice of Availability

Responsible Agency: Office of Federal Activities, General Information (202) 564-7167 or http://www.epa.gov/compliance/nepa/.

Weekly receipt of Environmental Impact Statements filed 04/09/2007 through 04/13/2007 pursuant to 40 CFR 1506.9.

EIS No. 20070144, Final EIS, AFS, CA, Brown Project, Proposal to Improve Forest Health by Reducing Overcrowded Forest Stand Conditions, Trinity River Management Unit, Shasta-Trinity National Forest, Weaverville Ranger District, Trinity County, CA, Wait Period Ends: 05/21/2007, Contact: Joyce Andersen 530-623-2121.

EIS No. 20070145, Draft Supplement, AFS, UT, Ogden Ranger District Travel Plan Revision, To Present Additional Analysis for Six Alternatives, Wasatch-Cache National Forest, Ogden Ranger District, Box Elder, Cache, Morgan, Weber and Rich Counties, UT, Comment Period Ends: 06/04/2007, Contact: Rick Vallejos 801-625-5112.

EIS No. 20070146, Final EIS, COE, CA, ADOPTION—Folsom Dam Safety and Flood Damage Reduction Project, Addressing Hydrologic, Seismic, Static, and Flood Management Issues, Sacramento, El Dorado and Placer Counties, CA, Wait Period Ends: 05/21/2007, Contact: Jane Rinck 916-557-6715.

EIS No. 20070147, Draft EIS, AFS, MT, Trapper Bunk House Land Stewardship Project, Reduce Risk from Stand-Replacing and Uncontrollable Fires, Improve Resiliency and Provide Forest Products, Fuel Reduction Research and Watershed Improvement, Bitterroot National Forest, Darby Ranger District, Ravalli County, MT, Comment Period Ends: 06/04/2007, Contact: Chuck Oliver 406-821-3913.

EIS No. 20070148, Final EIS, FHW, NC, US 64 Corridor Project, Transportation Improvements in the Vicinity of the City of Asheboro and Improved Access to the NC Zoological Park, Funding and COE Section 404 Permit, Transportation Improvement Program (TIP) Project No. R-2536, Randolph County, NC, Wait Period Ends: 05/21/2007, Contact: John F. Sullivan 919-856-4346.

EIS No. 20070149, Draft EIS, FRC, 00, Southeast Expansion Project, Construction and Operation of 110.8 miles for Natural Gas Pipeline and Associated Ancillary Facilities, TX and LA , Comment Period Ends: 06/04/2007 Contact: Andy Black 1-866-208-3372.

EIS No. 20070150, Draft EIS, FRC, WI, Gurardian Expansion and Extension Project, Construction and Operation Natural Gas Pipeline Facilities, Jefferson, Dodge, Fond du Lac, Calument, Brown, Walworth, Outagamie Counties, WI, Comment Period Ends: 06/04/2007, Contact: Andy Black 1-866-208-3372.

EIS No. 20070151, Draft EIS, BLM, NV, White Pine Energy Station Project, Construction and Operation, Coal-fired Electric Power Generating Plant, White Pine County, NV, Comment Period Ends: 06/19/2007, Contact: Doris Metcalf 775-289-1852.

EIS No. 20070152, Draft EIS, GSA, OH, Cincinnati National Institute for Occupational Safety and Health (NIOSH) Laboratories Consolidation, Site Selection, Hamilton and Clermont Counties, OH, Comment Period Ends: 06/04/2007, Contact: Phil Youngberg 404-433-83-93.

EIS No. 20070153, Draft EIS, BLM, NM, Socorro Resource Management Plan Revision, Implementation, Socorro and Catron Counties, NM, Comment Period Ends: 07/19/2007, Contact: Brian Bellew 505-838-1273.

EIS No. 20070154, Draft EIS, NOA, 00, Amendment 27 to the Reef Fish Fishery Management Plan and Amendment 14 to the Shrimp Fishery Management Plan, To Address Stock Rebuilding and Overfishing of Red Snapper, Gulf of Mexico, Comment Period Ends: 06/04/2007, Contact: Roy E. Crabtree 727-824-5701.

EIS No. 20070155, Draft EIS, COE, GA, Fort Benning U.S. Army Reserve Center, Base Realignment and Closure (BRAC) 2005 and Transformation Actions, Chattahoochee and Muscogee Counties, GA, Comment Period Ends: 06/04/2007, Contact: John Brent 706-545-2180.

EIS No. 20070156, Final EIS, NOA, CA, Channel Islands National Marine Sanctuary (CINMS) Project, Establishment of No-Take and Limited-Take Marine Zones, Protection of Sanctuary Biodiversity, CA, Wait Period Ends: 05/21/2007, Contact: Chris Mobley 805-966-7107.

Amended Notices

EIS No. 20070063, Draft Supplement, USN, 00, Introduction of F/A 18 E/F (Super Hornet) Aircraft, Updated Information, Construction and Operation of an Outlying Landing Field, Naval Air Station (NAS) Oceana, VA; Marine Corps Air Station (MCAS) Cherry Point, NC, Wait Period Ends: 05/19/2007, Contact: Francine Blend 757-322-4332. Revision to FR Notice Published 02/23/2007: Extending Comment Period from 04/24/2007 to 05/19/2007.

EIS No. 20070115, Draft EIS, FAA, FL, Fort Lauderdale-Hollywood International Airport, Proposed Development and Extension of Runway 9R/27L and other Associated Airport Projects, Funding, U.S. Army COE Section 404 Permit and NPDES Permit, Fort Lauderdale, Broward County, FL, Wait Period Ends: 05/21/2007, Contact: Virginia Lane 407-812-6331 Ext. 129.

Revision to FR Notice Published 03/30/2007: Extending Comment

Period from 05/14/2007 to 05/21/2007.

Dated: April 17, 2007.
Robert W. Hargrove,
Director, NEPA Compliance Division, Office of Federal Activities.

[FR Doc. E7-7543 Filed 4-19-07; 8:45 am]

BILLING CODE 6560-50-P